DEPARTMENT OF THE INTERIOR

Bureau of Reclamation

Notice of Availability for public comment of the Draft Municipal and Industrial (M&I) Water Shortage Policy, Central Valley Project (CVP), California

SUMMARY: The Bureau of Reclamation (Reclamation) has developed, in consultation with the CVP municipal and industrial (M&I) Water Service contractors, a draft CVP M&I Water Shortage Policy. The purposes of the M&I Water Shortage Policy are to (1) define water allocations applicable to all CVP M&I contractors during times of reduced water supplies, (2) establish a minimum water supply level that with the M&I contractor's drought water conservation measures and other water supplies should sustain urban areas during drought situations, and (3) during severe or continuing droughts would, as much as possible, protect public health and safety, and (4) provide information to help M&I Contractors develop drought contingency plans. This policy is in furtherance of the June 9, 1997 Central Valley Project Improvement Act Administrative Proposal on Urban Water Supply Reliability.

DATES: Submit written comments on the Draft CVP M&I Water Shortage Policy on or before November 29, 2001 to the address below.

ADDRESSES: Copies of the Draft CVP M&I Water Shortage Policy may be requested by writing Alisha Sterud at the above address or by calling (916) 978-5195 or retrieved from the Web site at www.mp.usbr.gov/cvpia/3404c/mi_shortage.html. Written comments on the Draft CVP M&I Water Shortage Policy should be addressed to the Bureau of Reclamation, Attention: Alisha Sterud, MP-400, 2800 Cottage Way, Sacramento, CA 95825.

FOR FURTHER INFORMATION CONTACT: For additional information, please contact Alisha Sterud at (916) 978-5195, or e-mail: asterud@mp.usbr.gov.

SUPPLEMENTARY INFORMATION: The CVP (Central Valley Project) is operated under Federal statutes authorizing the CVP and by the terms and conditions of water rights acquired pursuant to California law. During any year, there may occur constraints on the availability of CVP water for an M&I (municipal and industrial) contractor under its contract. The cause of the water shortage may be drought, unavoidable causes, or restricted operations resulting from legal obligations or mandates. Those legal obligations include but are not limited to the Endangered Species Act, the Central Valley Project Improvement Act (CVPIA), and conditions imposed on CVP's water rights by the State of California. This policy establishes the terms and conditions regarding the constraints on availability of water supply for the CVP M&I water service contracts.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 12, 2001.
Kirk Rodgers,
Acting Regional Director.

[FR Doc. 01-27207 Filed 10-29-01; 8:45 am]

BILLING CODE 4310-MN-M